DEPARTMENT OF ENERGY

Federal Energy Regulatory Commission

[Project No. 2685-029]

New York Power Authority; Notice of Application Tendered for Filing With the Commission and Establishing Procedural Schedule for Licensing and Deadline for Submission of Final Amendments

Take notice that the following hydroelectric application has been filed with the Commission and is available for public inspection.

a. Type of Application: New Major License.

b. Project No.: 2685-029.

c. Date Filed: April 27, 2017.

d. Applicant: New York Power Authority (NYPA).

e. Name of Project: Blenheim-Gilboa Pumped Storage Project (Blenheim-Gilboa Project).

f. Location: The existing project is located on Schoharie Creek in the towns of Blenheim and Gilboa in Schoharie County, New York. The project does not occupy lands of the United States.

g. Filed Pursuant to: Federal Power Act, 16 U.S.C. 791(a)-825(r).

h. Applicant Contact: Robert A. Daly, Licensing Manager, New York Power Authority, 123 Main Street, White Plains, New York 10601; (914) 681-6564; Rob.Daly@nypa.gov.

i. FERC Contact: Andy Bernick, (202) 502-8660 or andrew.bernick@ferc.gov.

j. This application is not ready for environmental analysis at this time.

k. Project Description: The existing Blenheim-Gilboa Project consists of the following: (1) a 2.25-mile-long, 30-foot-wide earth and rock fill embankment dike with a maximum height of 110 feet, constructed at Brown Mountain and forming the 399-acre Upper Reservoir (operating at the maximum and extreme minimum elevations of 2,003 feet and 1,955 feet National Geodetic Vertical Datum of 1929 [NGVD 29], respectively) with 15,085 acre-feet of usable storage and dead storage of 3,706 acre-feet below elevation 1,955 feet NGVD 29; (2) a 655-foot-long emergency spillway with a 25-foot-wide asphaltic concrete crest at elevation 2,005 feet NGVD 29 and a capacity of 10,200 cubic feet per second (cfs); (3) an intake system that includes: (i) A 125-foot-wide hexagonal-shaped intake cover with trash racks with a clear spacing of 5.25 inches; (ii) a 1,042-foot-long, 28-foot-diameter, concrete-lined vertical shaft in the bottom of the Upper Reservoir; (iii) a 906-foot-long horizontal, concrete-lined rock tunnel; and (iv) a 460-foot-long concrete-lined manifold that distributes flow to four 12-foot-diameter steel-lined penstocks, each with a maximum length of about 1,960 feet, to four pump-turbines located at the powerhouse; (4) a 526-foot-long, 172-foot-wide, and 132-foot-high multi-level powerhouse located along the east bank of the Lower Reservoir at the base of Brown Mountain, containing four reversible pump turbines that each produce approximately 290 megawatts (MW) in generation mode, and have a total maximum discharge of 12,800 cfs during generation and 10,200 cfs during pumping; (5) a bottom trash rack with a clear spacing of 5.625 inches, and four upper trash racks with a clear spacing of 5.25 inches; (6) an 1,800-foot-long central core, rock-filled lower dam with a maximum height of 100 feet that impounds Schoharie Creek to form the 413-acre Lower Reservoir (operating at the maximum and minimum elevations of 900 feet and 860 feet NGVD 29, respectively) with 12,422 acre-feet of usable storage and dead storage of 3,745 acre-feet below 860 feet NGVD 29; (7) three 38-foot-wide by 45.5-foot-high Taintor gates at the left end of the lower dam; (8) a 425-foot-long, 134-foot-wide concrete spillway structure with a crest elevation of 855 feet NGVD 29; (9) a 238-foot-long, 68.5-foot-deep concrete stilling basin; (10) a low level outlet with four discharge valves of 4, 6, 8, and 10 inches for release of 5 to 25 cfs, and two 36-inch-diameter Howell-Bunger valves to release a combined flow of 25 to 700 cfs; (10) a switchyard on the eastern bank of Schoharie Creek adjacent to the powerhouse; and (11) appurtenant facilities.

During operation, the Blenheim-Gilboa Project's pump-turbines may be turned on or off several times throughout the day, but the project typically generates electricity during the day when consumer demand is high and other power resources are more expensive. Pumping usually occurs at night and on weekends when there is excess electricity in the system available for use. According to a July 30, 1975, settlement agreement, NYPA releases a minimum flow of 10 cubic feet per second (cfs) during low-flow periods when 1,500 acre-feet of water is in storage, and 7 cfs when less than 1,500 acre-feet is in storage. For the period 2007 through 2016, the project's average annual generation was about 374,854 megawatt-hours (MWh) and average annual energy consumption from pumping was about 540,217 MWh.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: On September 6, 2016, Commission staff issued a revised process plan and schedule with milestones and dates for the filing and review of NYPA's remaining study reports. NYPA filed its remaining study report on February 17, 2017. The Director, Office of Energy Projects will make a final determination on the need to modify the approved study plan for the remaining study by June 18, 2017. At this time, the application is expected to be processed according to the following preliminary Hydro Licensing Schedule. Revisions to the schedule may be made following the Director's determination on the remaining study, and as appropriate.

Milestone | Target date
Notice of Acceptance/Notice of Ready for Environmental Analysis | June 2017.
Filing of recommendations, preliminary terms and conditions, and fishway prescriptions | August 2017.
Commission issues Draft Environmental Assessment (EA) or Environmental Impact Statement (EIS) | February 2018.
Comments on Draft EA or EIS | April 2018.
Modified terms and conditions | June 2018.
Commission issues Final EA or EIS | September 2018.

o. Final amendments to the application must be filed with the Commission no later than 30 days from the issuance date of the notice of ready for environmental analysis.

Dated: May 9, 2017.
Kimberly D. Bose,
Secretary.

[FR Doc. 2017-09799 Filed 5-15-17; 8:45 am]

BILLING CODE 6717-01-P